FEDERAL TRADE COMMISSION

Public Workshop: Radio Frequency Identification: Applications and Implications for Consumers

AGENCY: Federal Trade Commission (FTC).

ACTION: Extension of public comment period until July 9, 2004.

SUMMARY: The FTC announces that the time period during which persons may submit written comments on the issues to be addressed by the public workshop has been extended.

DATES: Comments must be received by July 9, 2004.

ADDRESSES: Interested parties are invited to submit written comments. Comments should refer to “RFID Workshop—Comment, P049106,” to facilitate the organization of comments. A comment filed in paper form should include this reference both in the text and on the envelope, and the original and two copies should be mailed or delivered to the following address: Federal Trade Commission/Office of the Secretary, Room 159-H (Annex G), 600 Pennsylvania Avenue, NW., Washington, DC 20580. Comments containing confidential material must be filed in paper form, as explained in the Supplementary Information section. The Commission is requesting that any comment filed in paper form be sent by courier or overnight service, if possible, because U.S. postal mail in the Washington area and at the Commission is subject to delay due to heightened security precautions. Comments filed in electronic form (except comments containing any confidential material) should be sent, as prescribed in the Supplementary Information section, to the following email box: rfidworkshop@ftc.gov.

FOR FURTHER INFORMATION CONTACT: Julie K. Brof, Attorney, (206) 220-4475, Northwest Region, Federal Trade Commission, 915 Second Avenue, Suite 2896, Seattle, WA 98174. To read our policy on how we handle the information you submit, please visit http://www.ftc.gov/ftc/privacy.htm.

SUPPLEMENTARY INFORMATION:

Background and Workshop Goals

On June 21, 2004, the FTC is planning to host a public workshop, “Radio Frequency Identification: Applications and Implications for Consumers,” that will explore the uses, efficiencies, and implications for consumers associated with radio frequency identification (RFID) technology. The workshop will address both current and anticipated uses of RFID tags and their impact on the marketplace. Questions to be addressed at the workshop are set forth in the Commission's Notice Announcing Public Workshop and Requesting Public Comment, published in the Federal Register on April 15, 2004.

Form and Availability of Comments

The time period during which public comments may be submitted has been extended. Interested parties may submit written comments on the questions and issues addressed by the workshop until July 9, 2004. Especially useful are any studies, surveys, research, and empirical data. Comments should refer to “RFID Workshop—Comment, P049106,” to facilitate the organization of comments. A comment filed in paper form should include this reference both in the text and on the envelope, and the original and two copies should be mailed or delivered to the following address: Federal Trade Commission/Office of the Secretary, Room 159-H (Annex G), 600 Pennsylvania Avenue, NW., Washington, DC 20580. If the comment contains any material for which confidential treatment is requested, it must be filed in paper (rather than electronic) form, and the first page of the document must be clearly labeled “Confidential.” ¹ The FTC is requesting that any comment filed in paper form be sent by courier or overnight service, if possible, because U.S. postal mail in the Washington area and at the Commission is subject to delay due to heightened security precautions. Comments filed in electronic form (except comments containing any confidential material) should be sent to the following email box: rfidworkshop@ftc.gov.

¹ Commission Rule 4.2(d), 16 CFR 4.2(d). The comment must be accompanied by an explicit request for confidential treatment, including the factual and legal basis for the request, and must identify the specific portions of the comment to be withheld from the public record. The request will be granted or denied by the Commission's General Counsel, consistent with applicable law and the public interest. See Commission Rule 4.9(c), 16 CFR 4.9(c).

The FTC Act and other laws the Commission administers permit the collection of public comments to consider and use in this proceeding as appropriate. All timely and responsive public comments, whether filed in paper or electronic form, will be considered by the Commission, and will be available to the public on the FTC Web site, to the extent practicable, at http://www.ftc.gov. As a matter of discretion, the FTC makes every effort to remove home contact information for individuals from the public comments it receives before placing those comments on the FTC Web site. More information, including routine uses permitted by the Privacy Act, may be found in the FTC's privacy policy, at http://www.ftc.gov/ftc/privacy.htm.

Donald S. Clark,
Secretary.

[FR Doc. 04-11631 Filed 5-21-04; 8:45 am]

BILLING CODE 6750-01-P